SMALL BUSINESS ADMINISTRATION

[Disaster Declaration #13839 and #13840]

Texas Disaster Number TX-00418

AGENCY: U.S. Small Business Administration.

ACTION: Amendment 1.

SUMMARY: This is an amendment of the Presidential declaration of a major disaster for Public Assistance Only for the State of Texas (FEMA-4159-DR), dated 12/20/2013.

Incident: Severe Storms and Flooding.

Incident Period: 10/30/2013 through 10/31/2013.

Effective Date: 01/17/2014.

Physical Loan Application Deadline Date: 02/18/2014.

Economic Injury (EIDL) Loan Application Deadline Date: 09/22/2014.

ADDRESSES: Submit completed loan applications to: U.S. Small Business Administration Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of TEXAS, dated 12/20/2013, is hereby amended to include the following areas as adversely affected by the disaster.

Primary Counties: Freestone.

All other information in the original declaration remains unchanged.

(Catalog of Federal Domestic Assistance Numbers 59002 and 59008)

James E. Rivera,
Associate Administrator for Disaster Assistance.

[FR Doc. 2014-01995 Filed 1-30-14; 8:45 am]

BILLING CODE 8025-01-P